DEPARTMENT OF VETERANS AFFAIRS

Privacy Act of 1974; System of Records

AGENCY: Department of Veterans Affairs.

ACTION: Notice of amendment to an existing System of Records.

SUMMARY: As required by the Privacy Act of 1974, 5 U.S.C. 552a(e)(4), notice is hereby given that the Department of Veterans Affairs (VA) proposes to modify its existing system of records “Loan Guaranty Home, Condominium and Manufactured Home Loan Applicants Records, Specially Adapted Housing Applicant Records and Vendee Loan Applicant Records—VA (55VA26).”

DATES: Comments on the proposed modifications to the routine uses must be received no later than 30 days after date of publication in the Federal Register, on or before February 24, 2014. If no public comment is received during the period allowed for comments, the routine use will become effective February 24, 2014.

ADDRESSES: Written comments may be submitted through www.Regulations.gov; by mail or hand-delivery to the Director, Regulations Management (02REG), Department of Veterans Affairs, 810 Vermont Ave., NW., Room 1068, Washington, DC 20420; or by fax to (202) 273-9026. (This is not a toll-free number.) Copies of comments received will be available for public inspection in the Office of Regulation Policy and Management, Room 1063B, between the hours of 8:00 a.m. and 4:30 p.m., Monday through Friday (except holidays). Please call (202) 461-4902 for an appointment. (This is not a toll-free number.) In addition, during the comment period, comments may be viewed online through the Federal Docket Management System (FDMS) at www.Regulations.gov.

FOR FURTHER INFORMATION CONTACT: Erica Lewis, Loan Specialist, Loan Guaranty Service, Department of Veterans Affairs, 810 Vermont Ave., NW., Washington, DC 20420, (202) 632-8823. (This is not a toll-free number.)

SUPPLEMENTARY INFORMATION: The Department is proposing to amend its System of Records entitled “Loan Guaranty Home, Condominium and Manufactured Home Loan Applicants Records, Specially Adapted Housing Applicant Records and Vendee Loan Applicant Records—VA (55VA26),” by adding a new policy and practice for storing of records in the System to permit VA to maintain VA-guaranteed, insured, direct, and vendee loan records in individual folders on paper documents, automated storage media, and as electronically scanned documents.

VA has determined that it may destroy original paper documents/records after the information has been converted to an electronic medium and verified as a necessary and proper means of storage, and that the specific storage proposed for electronically scanned documents is appropriate.

A copy of the revised system notice has been sent to the House of Representatives Committee on Government Reform and Oversight, the Senate Committee on Governmental Affairs, and the Office of Management and Budget (OMB) as required by 5 U.S.C. 552a(r) and guidelines issued by OMB (59 FR 37906, 3791618, July 25, 1994.)

The proposed storage will be added to the system of records entitled “Loan Guaranty Home, Condominium and Manufactured Home Loan Applicant Records, Specially Adapted Housing Applicant Records, and Vendee Loan Applicant Records—VA (55VA26)” as published at 40 FR 38095, August 26, 1975, and amended at 48 FR 49961, October 28, 1983; 51 FR 24781, July 8, 1986; 51 FR 28289, August 6, 1986; 52 FR 721, January 8, 1987; 53 FR 49818, December 9, 1988; 56 FR 2064, January 18, 1991; 56 FR 15666, April 17, 1991; 58 FR 50629, September 28, 1993; 62 FR 35545, July 1, 1997, and 67 FR 72721, December 6, 2002.

Approved: December 18, 2013.
Jose D. Riojas,
Chief of Staff, Department of Veterans Affairs.

Notice of Amendment to System of Records

The system of records identified as “Loan Guaranty Home, Condominium and Manufactured Home Loan Applicants Records, Specially Adapted Housing Applicant Records and Vendee Loan Applicant Records—VA (55VA26),” published at 40 FR 38095, August 26, 1975, and amended at 48 FR 49961, October 28, 1983; 51 FR 24781, July 8, 1986; 51 FR 28289, August 6, 1986; 52 FR 721, January 8, 1987; 53 FR 49818, December 9, 1988; 56 FR 2064, January 18, 1991; 56 FR 15666, April 17, 1991; 58 FR 50629, September 28, 1993; 62 FR 35545, July 1, 1997 and 67 FR 72721 December 6, 2002, is revised to add a new storage as follows:

55VA26

System name:

Loan Guaranty Home, Condominium and Manufactured Home Loan Applicants Records, Specially Adapted Housing Applicant Records and Vendee Loan Applicant Records—VA (55VA26).

* * * * *

POLICIES AND PRACTICES FOR STORING, RETRIVEING, ACCESSING, RETAINING, AND DISPOSING OF RECORDS IN THE SYSTEM:

* * * * *

VA-guaranteed, insured, direct and vendee loan records are maintained in individual folders on paper documents, on automated storage media (i.e, microfilm, microfiche, magnetic tape and magnetic disks), and on electronically scanned documents.

[FR Doc. 2014-01286 Filed 1-22-14; 8:45 am]

BILLING CODE 8320-01-P